DEPARTMENT OF ENERGY

Office of Energy Efficiency and Renewable Energy

10 CFR Part 430

Energy Conservation Program for Consumer Products and Commercial and Industrial Equipment

AGENCY: Office of Energy Efficiency and Renewable Energy, Department of Energy.

ACTION: Notice of public meeting.

SUMMARY: The Department of Energy (DOE or Department) will hold an informal public meeting to discuss the priorities of the existing program and any possible expansion of the scope of the program to include additional consumer products and commercial and industrial equipment. The Department is interested in receiving suggestions on the criteria it should use to reach decisions on these issues and on the factors, data and analysis methods that might be used by DOE in its decision making process.

DATES: The public meeting will be held on Tuesday, September 11, 2001, from 9 a.m. to noon. Written comments should be submitted by October 11, 2001.

ADDRESSES: The meeting will be held at the U.S. Department of Energy, Forrestal Building, Room 1E-245, 1000 Independence Avenue, SW, Washington, DC 20585. (Please note that foreign nationals visiting DOE Headquarters are subject to advance security screening procedures. If you are a foreign national and wish to participate in the meeting, please inform DOE of this fact as soon as possible by contacting Ms. Brenda Edwards-Jones at (202) 586-2945 so that the necessary procedures can be completed.)

A list identifying the proposed priority for standards rulemakings that are currently mandated by statute and a list of possible new products that have been identified by various stakeholders were placed on the DOE website at: http://www.eren.doe.gov/buildings/codes_standards/index.htm.

Written comments are welcome, especially following the meeting. Please submit written comments to: Ms. Brenda Edwards-Jones, U.S. Department of Energy, Office of Energy Efficiency and Renewable Energy, Energy Conservation Program for Consumer Products, EE-41, 1000 Independence Avenue, SW, Washington, DC 20585-0121. Telephone: (202) 586-2945; Telefax: (202) 586-4617. You should label comments both on the envelope and on the documents and submit them for DOE receipt by October 11, 2001. Please submit one signed copy and a computer diskette (WordPerfect 8) or 10 copies (no telefacsimiles). The Department will also accept electronically-mailed comments, e-mailed to Brenda.Edwards-Jones@ee.doe.gov, but you must supplement such comments with a signed hard copy.

Copies of the agenda and attendees of the public meeting, the public comments received, the list of current rulemakings and possible new products, and this notice may be read at the Freedom of Information Reading Room, U.S. Department of Energy, Forrestal Building, Room 1E-190, 1000 Independence Avenue, SW, Washington, DC 20585, (202) 586-3142, between the hours of 9 a.m. and 4 p.m., Monday through Friday, except Federal holidays.

FOR FURTHER INFORMATION CONTACT: Michael Raymond, U.S. Department of Energy, Office of Energy Efficiency and Renewable Energy, EE-41, 1000 Independence Avenue, SW, Washington, DC 20585-0121, (202) 586-9611, email: michael.raymond@ee.doe.gov pertaining to priority setting for current rulemakings, and Bryan Berringer, U.S. Department of Energy, Office of Energy Efficiency and Renewable Energy, EE-41, 1000 Independence Avenue, SW, Washington, DC 20585-0121, (202) 586-0371, email: bryan.berringer@ee.doe.gov pertaining to possible new products, or Francine Pinto, U.S. Department of Energy, Office of General Counsel, GC-72, 1000 Independence Avenue, SW, Washington, DC 20585-0103, (202) 586-7432, email: francine.pinto@hq.doe.gov.

SUPPLEMENTARY INFORMATION: On May 2001, the National Energy Policy Development Group (NEPD Group) reported a National Energy Policy to the President. One of the recommendations called for the President to direct the Secretary of Energy to take steps to improve the energy efficiency of appliances. The recommendation included supporting the existing appliance standards program, setting higher standards where technologically feasible and economically justified, and expanding the scope of the program to include additional consumer products and commercial and industrial equipment.

The main focus of the meeting will be to discuss the process that DOE should use in setting priorities for the existing program and any possible expansion of the scope of the program to include additional products and equipment. The Department is interested in receiving comments on its proposed priorities for current standards rulemakings and suggestions on the criteria it should use to reach decisions on the possible expansion of the program. The Department is also interested in receiving comments on the factors, data and analysis methods that might be used by DOE in its decision making process. Additional products and equipment could be addressed through voluntary programs, consumer education, legislation and/or regulation. Indeed, there are bills being drafted and introduced in the Congress which would direct DOE to address additional products and equipment. Thus, the timing of this meeting would allow DOE to do some early planning in anticipation of a number of possible new activities.

Today's notice, the subject lists of current rulemakings and possible new products and equipment, and the planned meeting mark the next steps in seeking stakeholder input into the rulemaking process. The lists can be found on the following web-site: http://www.eren.doe.gov/buildings/codes_standards/index.htm.

The meeting will be conducted in an informal, conference style. There shall be no discussion of proprietary information, costs or prices, market shares, or other commercial matters regulated by the U.S. antitrust laws.

After the meeting and expiration of the period for submitting written statements, the Department will begin consideration of the comments received.

If you would like to participate in the meeting, receive meeting materials, or be added to the DOE mailing list to receive future notices and information regarding the energy conservation program for consumer products and commercial and industrial equipment, please contact Ms. Brenda Edwards-Jones at (202) 586-2945.

Issued in Washington, DC, on August 22, 2001.
David K. Garman,
Assistant Secretary for Energy Efficiency and Renewable Energy.

[FR Doc. 01-21667 Filed 8-27-01; 8:45 am]

BILLING CODE 6450-01-P